FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012084-002.

Title: HLAG/Maersk Line Gulf-South America Slot Charter Agreement.

Parties: A.P. Moller-Maersk A/S and Hapag-Lloyd AG.

Filing Party: Robert K. Magovern, Esq.; Cozen O'Connor; 1627 I Street NW., Suite 1100; Washington, DC 20006-4007.

Synopsis: The amendment would add an additional service string from which Maersk could charter space from Hapag-Lloyd. The parties have requested Expedited Review.

Agreement No.: 012163-002.

Title: MSC/CMA CGM U.S. East Coast—East Coast South America Service Space Charter Agreement.

Parties: Mediterranean Shipping Company S.A. and CMA CGM S.A.

Filing Party: Marc J. Fink, Esquire; Cozen O'Connor; 1627 I Street NW., Suite 1100; Washington, DC 20006-4007.

Synopsis: The Amendment would increase slot allocations and revise vessel size. The Parties request Expedited Review.

Agreement No.: 201166-001.

Title: Marine Terminal Lease and Operating Agreement.

Parties: Broward County, Florida International Terminal, LLC, and Compania Sud Americana de Vapores, S.A. (as guarantor).

Filing Party: Candace J. Running; Broward County Board of County Commissioners; Office of the County Attorney; 1850 Eller Drive, Suite 502; Fort Lauderdale, FL 33316.

Synopsis: The Amendment updates the terms for the lease and operation of terminal facilities at Port Everglades, Florida.

Agreement No.: 201166-002.

Title: Marine Terminal Lease and Operating Agreement.

Parties: Broward County, Florida International Terminal, LLC, and Compania Sud Americana de Vapores, S.A. (as guarantor).

Filing Party: Candace J. Running; Broward County Board of County Commissioners; Office of the County Attorney; 1850 Eller Drive, Suite 502; Fort Lauderdale, FL 33316.

Synopsis: The Amendment adds an additional service to the terms of the Agreement.

By Order of the Federal Maritime Commission.
Dated: July 2, 2013.
Karen V. Gregory,
Secretary.

[FR Doc. 2013-16294 Filed 7-5-13; 8:45 am]

BILLING CODE 6730-01-P